PEACE CORPS

22 CFR Part 304

RIN 0420-AA20

Claims Against Government Under Federal Tort Claims Act

AGENCY: Peace Corps.

ACTION: Fina rule and comment request.

SUMMARY: The Peace Corps is revising its regulations concerning claims filed under the Federal Tort Claims Act. These changes update Peace Corps' address, as well as authority cited in the regulation. Revisions also identify a new policy under which the Chief Financial Officer, rather than the Director of the Peace Corps, will have authority to approve claims for amounts under $5000.

DATES: This final rule is effective on March 16, 2007 without further action, unless adverse comment is received by Peace Corps by March 1, 2007. If adverse comment is received, Peace Corps will publish a timely withdrawal of the rule in the Federal Register.

ADDRESSES: You may submit comments by e-mail to sglasow@peacecorps.gov. Include Rin 0420-AA20 in the subject line of the message. You may also submit comments by mail to Suzanne Glasow, Office of the General Counsel, Peace Corps, Suite 8200, 1111 20th Street, NW., Washington, DC 20526. Contact Suzanne Glasow for copies of comments.

FOR FURTHER INFORMATION CONTACT: Suzanne Glasow, Associat General Counsel, 202-692-2150, sglasow@peacecorps.gov.

SUPPLEMENTARY INFORMATION: The revisions to the rules include updates to cited authority and Peace Corps' address. In addition, claims for less than $5000 will no longer require approval from the head of the agency. The Chief Financial Officer will be the designee of the head of the agency for such claims. The head of the agency will continue to have approval authority for all claims of $5000 or more.

Section-by-Section Analysis

Section 304.1 Scope; Definitions

Subpart (c) is amended to reflect the fact that 31 FR 16616 is no longer a thorough representation of the contents of 28 CFR part 14. The language of this section will be revised by deleting 31 FR 16616, and referring only to 28 CFR part 14.

Section 304.2 Administrative Claim; When Presented; Appropriate Peace Corps Office

Subpart (a) is amended to include Peace Corps' current address, 1111 20th Street, NW., Washington, DC 20526.

Section 304.7 Authority To Adjust, Determine, Comprise, and Settle Claims

This section is revised to state that the Chief Financial Officer has the authority to adjust, determine, compromise, and settle claims for less than $5,000 under section 2672 of title 28, United States Code. The Director of the Peace Corps retains authority for all claims of $5,000 or more.

Section 304.9 Referral to the Department of Justice

This section is revised to delete the reference to 28 CFR 14.7, which is an obsolete citation.

Executive Order 12866

This regulation has been determined to be nonsignificant within the meaning of Executive Order 12866.

Regulatory Flexibility Act of 1980 (5 U.S.C. 605(b))

This regulatory action will not have a significant adverse impact on a substantial number of small entities.

Unfunded Mandates Act of 1995 (Sec. 202, Pub. L. 104-4)

This regulatory action does not contain a Federal mandate that will result in the expenditure by State, local, and tribal governments, in aggregate, or by the private sector of $100 million or more in any one year.

Paperwork Reduction Act of 1995 (44 U.S.C., Chapter 35)

This regulatory action will not impose any additional reporting or recordkeeping requirements under the Paperwork Reduction act.

Federalism (Executive Order 13132)

This regulatory action does not have Federalism implications, as set forth in Executive Order 13132. It will not have substantial direct effects on the States, on the relationship between the national government and the States, or on the distribution of power and responsibilities among the various levels of government.

List of Subjects in Part 304

Claims.

Accordingly, under the authority of 22 U.S.C. 2503(b) and 28 U.S.C. 2672, Peace Corps amends the Code of Federal Regulations, Title 22, Chapter III, as follows:

PART 304—CLAIMS AGAINST GOVERNMENT UNDER FEDERAL TORT CLAIMS ACT

1. The authority citation is revised to read as follows:

Authority: 28 U.S.C. 2672; 22 U.S.C. 2503(b); E.O. 12137, as amended.

2. Section 304.1(c) is revised to read as follows:

§ 304.1 Scope; definitions.

* * * * *

(c) This subpart is issued subject to and consistent with applicable regulations on administrative claims under the Federal Tort Claims Act issued by the Attorney General (28 CFR part 14).

* * * * *

3. Section 304.2(b) is revised to read as follows:

§ 304.2 Administrative claim; when presented; appropriate Peace Corps office.

* * * * *

(b) A claimant shall mail or deliver his claim to the General Counsel, Peace Corps, 1111 20th Street, NW., Washington, DC 20526.

4. Section 304.7 is revised to read as follows:

§ 304.7 Authority to adjust, determine, compromise, and settle claims.

The authority to consider, ascertain, adjust, determine, compromise and settle claims of less than $5,000 under 28 U.S.C. 2672, and this subpart, rests with the Chief Financial Officer, as the designee of the head of the agency. For claims under 28 U.S.C. 2672 and this subpart, subject to § 304.8, the Director of the Peace Corps retains authority to consider, ascertain, adjust, determine, compromise and settle claims of $5,000 or more.

5. Section 304.9 is revised to read as follows:

§ 304.9 Referral to the Department of Justice.

When Department of Justice approval or consultation is required under § 304.8, the referral or request shall be transmitted to the Department of Justice by the General Counsel.

Dated: January 19, 2007.
Tyler S. Posey,
General Counsel.

[FR Doc. 07-308 Filed 1-29-07; 8:45 am]

BILLING CODE 6015-01-M